DEPARTMENT OF AGRICULTURE

Office of the Secretary

7 CFR Part 1

[Docket No. USDA-2022-0004]

Review and Issuance of Agency Guidance Documents; Removal of Regulations

AGENCY: Office of the Secretary, USDA.

ACTION: Final rule.

SUMMARY: The U.S. Department of Agriculture is amending its administrative regulations by removing the procedural regulations for the review and issuance of agency guidance documents. Those regulations were issued in accordance with Executive Order (E.O.) 13891, which was revoked January 20, 2021, by E.O. 13992. This final rule implements the direction in section 3 of E.O. 13992 to rescind any regulations that were issued to implement or enforce E.O. 13891.

DATES: Effective May 4, 2023.

FOR FURTHER INFORMATION CONTACT: Mr. Stephen O'Neill, Office of Budget and Program Analysis, USDA, 1400 Independence Avenue SW, Washington, DC 20250-1400, (202) 720-0038 or stephen.oneill@usda.gov.

SUPPLEMENTARY INFORMATION: In a final rule published in the Federal Register on June 3, 2020 (85 FR 34085-34087, Docket No. USDA-2020-0006), and effective on July 6, 2020, the U.S. Department of Agriculture (USDA) amended its administrative regulations by adding procedural regulations for the review and issuance of agency guidance documents, as mandated by Executive Order (E.O.) 13891. Those regulations were added to the Department's regulations in title 7, part 1, as a new subpart Q, “Review and Issuance of Agency Guidance Documents” (§§ 1.900 through 1.911).

E.O. 13992 of January 20, 2021, revoked E.O. 13891 among other regulations-related executive orders listed in section 2 of E.O. 13992. Section 3 of E.O. 13992 directed the heads of agencies to “rescind any orders, rules, regulations, guidelines, or policies, or portions thereof, implementing or enforcing the Executive Orders identified in section 2 of this order.”

Therefore, in accordance with E.O. 13992, the Department is removing the regulations it issued under E.O. 13891. This final rule removes, in their entirety, the regulations in 7 CFR part 1, subpart Q.

This rule relates strictly to internal Departmental management. Therefore, pursuant to 5 U.S.C. 553(a)(2), notice of proposed rulemaking and opportunity to comment are not required.

Executive Order 12866

This regulatory action does not meet the criteria for significant regulatory action pursuant to Executive Order 12866, Regulatory Planning and Review.

The regulations removed by this rule were related the internal management of USDA. As such, they were for the use of USDA personnel only and did not create any right or benefit, substantive or procedural, enforceable at law or in equity by any party against the United States, its agencies or other entities, its officers or employees, or any other person. Accordingly, we expect the economic impact of removing those regulations, if any, to be minimal.

Regulatory Flexibility Act

The provisions of the Regulatory Flexibility Act relating to an initial and final regulatory flexibility analysis (5 U.S.C. 603, 604) are not applicable to this final rule because USDA was not required to publish notice of proposed rulemaking under 5 U.S.C. 553 or any other law. Accordingly, a regulatory flexibility analysis is not required.

Paperwork Reduction Act

This final rule does not contain information collection requirements that are not already required by law or not already approved for use. Accordingly, the review provisions of the Paperwork Reduction Act of 1995 (44 U.S.C. 3501 et seq.) and its implementing regulations at 5 CFR part 1320 do not apply.

List of Subjects in 7 CFR Part 1

Administrative practice and procedure, Antitrust, Claims, Cooperatives, Courts, Equal access to justice, Fraud, Freedom of information, Government employees, Indemnity payments, Lawyers, Motion pictures, Penalties, Privacy.

Therefore, for the reasons set forth in the preamble, the Department is amending part 1 of title 7 of the Code of Federal Regulations as follows:

PART 1—ADMINISTRATIVE REGULATIONS

1. The authority citation for part 1 continues to read as follows:

Authority: 5 U.S.C. 301, unless otherwise noted.

Subpart Q—[Removed]

2. Subpart Q, consisting of §§ 1.900 through 1.911, is removed.

Anthony Shea,
Acting Deputy Secretary, U.S. Department of Agriculture.

[FR Doc. 2023-09531 Filed 5-3-23; 8:45 am]

BILLING CODE 3410-90-P